DEPARTMENT OF DEFENSE

Department of the Army; Corps of Engineers

Intent To Prepare a Draft Supplemental Environmental Impact Statement for the Lake Okeechobee Regulation Schedule Study of the Central and Southern Florida Project for Flood Control and Other Purposes, Lake Okeechobee, FL

AGENCY: Department of the Army, U.S. Army Corps of Engineers, DoD.

ACTION: Notice of intent.

SUMMARY: The U.S. Army Corps of Engineers (Corps), Jacksonville District, intends to prepare a Draft Supplemental Environmental Impact Statement (DSEIS) for the Lake Okeechobee Regulation Schedule Study (LORSS), Lake Okeechobee, FL. The DSEIS will supplement the Final Environmental Impact Statement (FEIS) for the Lake Okeechobee Regulation Schedule Study prepared in 2000. The DSEIS will address additional alternatives to the current regulation schedule in order to optimize environmental benefits at minimal or no impact to the competing project purposes, primarily flood control and water supply. This study will consider operational changes to water management structures that discharge water from the lake as well as criteria used to determine those operations. Any operational changes will also consider current and planned water management activities within the Kissimmee River Basin. No new structural features will be considered except those already embedded within the South Florida Water Management Model.

DATES: Comments and recommendations on this notice should be received by September 30, 2005.

ADDRESSES: Written comments should be addressed to Ms. Yvonne Haberer, Biologist, U.S. Army Corps of Engineers, Planning Division, Environmental Branch, P.O. Box 4970, Jacksonville, FL 32232.

FOR FURTHER INFORMATION CONTACT: Ms. Yvonne L. Haberer, at the address above, by electronic mail at Yvonne.l.haberer@saj02.usace.army.mil or telephone at (904) 232-1701.

SUPPLEMENTARY INFORMATION: a. Authorization: Authority for this action is the Flood Control Act of 1948. It authorized the Central and Southern Florida (C&SF) Project, which is a multipurpose project that provides flood control, water supply for municipal, industrial, and agricultural uses; prevention of salt water intrusion; water supply for Everglades National Park; and protection of fish and wildlife resources.

b. Study Area: The study area considered to be most affected by the regulation schedule is Lake Okeechobee, particularly within the littoral and marsh areas of the lake, the St. Lucie Estuary, the Caloosahatchee Estuary, the Everglades Agricultural Area (EAA), and the Water Conservation Areas south of Lake Okeechobee. Lake Okeechobee lies 30 miles west of the Atlantic Ocean and 60 miles east of the Gulf of Mexico, in south central Florida. Lake Okeechobee is the largest lake in Florida covering approximately 730 square miles with an average depth of 10 feet.

c. Need or Purpose. There have been various regulation schedules since authorization of the C&SF project in 1948. The current regulation schedule, Water Supply and Environment (WSE), was the preferred alternative in the LORSS FEIS and approved in July 2000 for the regulation of Lake Okeechobee. the WSE regulation schedule and the Operational Guidelines Decision Trees incorporate tributary hydrologic conditions and climate forecasts into guidelines for managing Lake Okeechobee discharges and water levels. This logic-driven regulation schedule balances the various purposes of flood storage, water supply, fish and wildlife resources, and water delivery to the St. Lucie and Caloosahatchee estuaries. The unusual range of weather conditions occurring since implementation of the WSE regulation schedule and the lessons learned as a result, have indicated that modifications to the WSE are needed. The regulation schedule would benefit from greater flexibility in achieving optimal lake levels and optimal discharges to various downstream parts of the C&SF system.

d. Scoping Process. The scoping process as outlined by the Council on Environmental Quality would be utilized to involve Federal, State, and local agencies, affected Indian tribes, and other interested persons and organizations. A scoping letter will be sent to the appropriate parties requesting their comments and concerns. Any persons or organizations requesting to participate in the scoping process should contact the U.S. Army Corps of Engineers (see ADDRESSES).

e. Alternatives. The DSEIS will analyze reasonable alternatives, including the “no action” alternative to regulating lake levels and downstream discharges to various parts of the system.

f. Issues. The work being performed for this study will consist of identifying the impacts (both beneficial and adverse) associated with alternative Lake Okeechobee regulation schedules and the approved regulation schedule currently in place, WSE. Studies and investigations will be conducted to provide the basis for determining the environmental and socio-economic impacts of any proposed modifications to the WSE regulation schedule.

Significant issues anticipated include concern for: Water supply, continued flood control, agriculture, protection of the lake's environmental resources and its downstream estuaries, water quality, fish and wildlife habitat, endangered and threatened species, and any issues identified through scoping and public involvement. Lake Okeechobee is one of the most critical components of the C&SF project and achieving the right balance among the many, oftentimes competing demands on the lake, remains a difficult challenge.

The proposed action will be coordinated with the U.S. Fish and Wildlife Service and the National Marine Fisheries Service (NMFS) pursuant to Section 7 of the Endangered Species Act, with the NMFS concerning Essential Fish Habitat, and with the State Historic Preservation Officer concerning historic and cultural resources.

g. Agency Role. The Corps is the lead agency for this action. However, the non-Federal sponsor,and leading local expert, the South Florida Water Management District will provide extensive information and assistance on the resources to be impacted, mitigation measures, and alternatives.

h. Draft Environmental Impact Statement Availability. The DSEIS would be available on or about June 2006.

Dated: July 21, 2005.
Susan Scott Lucas,
Acting Chief, Planning Division.

[FR Doc. 05-15296 Filed 8-2-05; 8:45 am]

BILLING CODE 3710-AJ-M